DEPARTMENT OF DEFENSE

Office of the Secretary

[Transmittal No. 22-56]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-56 and Policy Justification.

Dated: August 16, 2024.
Patricia L. Toppings,
OSD Federal Register Liaison Officer, Department of Defense.

BILLING CODE 6001-FR-P

Transmittal No. 22-56

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ 0 million
Other | $98 million
TOTAL | $98 million

Funding Source: National Funds

(iii) Description and Quantity or Quantities of Articles or Services under Consideration for Purchase:

Major Defense Equipment (MDE):

None

Non-MDE:

Included is an expansion of the Cooperative Logistics Supply Support Arrangement for stock replenishment supply of non-standard spare parts, consumables, and accessories, and repair and replacement support for the F-16, C-130, Indigenous Defense Fighter (IDF), and all other aircraft and systems or subsystems of U.S. origin, as well as other related elements of logistics and program support.

(iv) Military Department: Air Force (TW-D-RAQ)

(v) Prior Related Cases, if any: TW-D-RAP

(vi) Sales Commission, Fee, etc., Paid, Offered, or Agreed to be Paid: None known at this time

(vii) Sensitivity of Technology Contained in the Defense Article or Defense Services Proposed to be Sold: None

(viii) Date Report Delivered to Congress: December 6, 2022

* As defined in Section 47(6) of the Arms Export Control Act.

POLICY JUSTIFICATION

Taipei Economic and Cultural Representative Office in the United States—Aircraft Non-Standard Spare Parts

The Taipei Economic and Cultural Representative Office in the United States (TECRO) has requested to buy an expansion of the Cooperative Logistics Supply Support Arrangement for stock replenishment supply of non-standard spare parts, consumables, and accessories, and repair and replacement support for the F-16, C-130, Indigenous Defense Fighter (IDF), and all other aircraft and systems or subsystems of U.S. origin, as well as other related elements of logistics and program support. The estimated total cost is $98 million.

This proposed sale is consistent with U.S. law and policy as expressed in Public Law 96-8.

This proposed sale serves U.S. national, economic, and security interests by supporting the recipient's continuing efforts to maintain a credible defensive capability. The proposed sale will help improve the security of the recipient and assist in maintaining political stability, military balance, and economic progress in the region.

The proposed sale will contribute to the sustainment of the recipient's aerial fleet, enhancing its ability to meet current and future threats while providing defensive and transport capabilities critical to regional security. The proposed sale will contribute to the recipient's goal of maintaining its military capability while further enhancing interoperability with the United States and other allies. The recipient will have no difficulty absorbing this equipment and support into its armed forces.

The proposed sale of this equipment and support will not alter the basic military balance in the region.

There are no principal contractors involved with this potential sale. There are no known offset agreements proposed in connection with this potential sale.

Implementation of this proposed sale will not require the permanent assignment of any U.S. Government or contractor representatives to recipient.

There will be no adverse impact on U.S. defense readiness as a result of this proposed sale.

[FR Doc. 2024-18760 Filed 8-20-24; 8:45 am]

BILLING CODE 6001-FR-C